DEPARTMENT OF TRANSPORTATION

Federal Aviation Administration

Notice of Request To Release Airport Property

AGENCY: Federal Aviation Administration (FAA), DOT.

ACTION: Notice of Intent to Rule on Request to Release Airport Property at the Eastern Iowa Airport, Cedar Rapids, Iowa.

SUMMARY: The FAA proposes to rule and invites public comment on the release of land at The Eastern Iowa Airport, Cedar Rapids, Iowa, under the provisions of 49 U.S.C. 47107(h)(2).

DATES: Comments must be received on or before May 31, 2013.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: Tim Bradshaw, Airport Director, 2515 Arthur Collins Parkway SW., Cedar Rapids, IA 52404-8952, (319) 362-3131.

FOR FURTHER INFORMATION CONTACT: Lynn D. Martin, Airports Compliance Specialist, Federal Aviation Administration, Airports Division, ACE-610C, 901 Locust Room 364, Kansas City, MO 64106, (816) 329-2644, lynn.martin@faa.gov.

The request to release property may be reviewed, by appointment, in person at this same location.

SUPPLEMENTARY INFORMATION: The FAA invites public comment on the request to release approximately 2.7 acres of airport property at The Eastern Iowa Airport (CID) under the provisions of 49 U.S.C. 47107(h)(2). On January 17, 2013, the Airport Director at The Eastern Iowa Airport requested from the FAA that approximately 2.7 acres of property be released for sale to the City of Cedar Rapids for use as street widening and improvements or other purposes consistent with the zoning ordinances of the City. On March 29, 2013, the FAA determined that the request to release property at The Eastern Iowa Airport (CID) submitted by the Sponsor meets the procedural requirements of the Federal Aviation Administration and the release of the property does not and will not impact future aviation needs at the airport. The FAA may approve the request, in whole or in part, no sooner than thirty days after the publication of this notice.

The following is a brief overview of the request:

The Eastern Iowa (CID) is proposing the release of airport property totaling 2.7 acres, more or less. This land is to be used for street widening and improvements. The release of land is necessary to comply with Federal Aviation Administration Grant Assurances that do not allow federally acquired airport property to be used for non-aviation purposes. The sale of the subject property will result in the land at The Eastern Iowa Airport (CID) being changed from aeronautical to non-aeronautical use and release the lands from the conditions of the Airport Improvement Program Grant Agreement Grant Assurances. In accordance with 49 U.S.C. 47107(c)(2)(B)(i) and (iii), the airport will receive fair market value for the property, which will be subsequently reinvested in another eligible airport improvement project for general aviation facilities at The Eastern Iowa Airport.

Any person may inspect, by appointment, the request in person at the FAA office listed above under FOR FURTHER INFORMATION CONTACT. In addition, any person may, upon appointment and request, inspect the application, notice and other documents determined by the FAA to be related to the application in person at The Eastern Iowa Airport.

Issued in Kansas City, MO on April 19, 2013.
Jim A. Johnson,
Manager, Airports Division.

[FR Doc. 2013-10287 Filed 4-30-13; 8:45 am]

BILLING CODE 4910-13-P